Proclamation 10378 of April 29, 2022

National Building Safety Month, 2022

By the President of the United States of America

A Proclamation

During National Building Safety Month, we renew our commitment to strengthening our buildings so that all Americans are safe. As our Nation continues to mourn the loss of those who perished in the Surfside condominium collapse and other building disasters, it is clear that the quality and resiliency of our infrastructure has never been more important. This month we also show our appreciation to the dedicated professionals who work tirelessly to create affordable, sustainable, and structurally sound buildings for our communities.

The impact of climate change and the increasing frequency and severity of natural hazard incidents—injuring people and damaging property and the environment—pose significant challenges for our infrastructure. Increasing our energy efficiency plays an important role in keeping Americans safe. Residential and commercial buildings account for more than one-third of the climate-altering carbon pollution that America releases each year—directly affecting our climate. Although hurricanes, floods, extreme heat, and wildfires impact communities across the Nation, they disproportionately impact communities of color and low-income communities that cannot necessarily afford to modernize their buildings or prepare for and recover from climate hazards.

The historic Bipartisan Infrastructure Law tackles these challenges head on. It enables us to repair our Nation’s aging infrastructure, modernize and electrify our buildings, and advance our climate resiliency. By investing in infrastructure, we are investing in opportunities and quality jobs for Americans—particularly in disadvantaged and underserved communities. To further support these communities, we are also providing grant funds for equitable disaster recovery.

This year’s National Building Safety Month theme—“Safety for All: Codes in Action”—is an important reminder that modern building code adoption and enforcement is essential to keeping our homes, businesses, schools, and other facilities safe. By investing in our infrastructure, modernizing our buildings, and adopting building codes, our buildings will contribute less to climate change, protect more Americans, and be better positioned to withstand extreme natural hazards in the future.

As we recommit to effective safety standards this month, let us pay tribute to building professionals nationwide—architects, engineers, construction workers, inspectors, building officials, and others—who help safeguard our communities. Let us strengthen our collaboration within and across the public, private, and non-profit sectors to address building safety needs today so we can meet the infrastructure challenges of tomorrow.

NOW, THEREFORE, I, JOSEPH R. BIDEN JR., President of the United States of America, by virtue of the authority vested in me by the Constitution and the laws of the United States, do hereby proclaim May 2022 as National Building Safety Month. I encourage citizens, government agencies, businesses, nonprofits, and other interested groups to join in activities that raise awareness about building safety. I also call on all Americans to learn more about how they can contribute to building safety at home, work, and in their communities.

IN WITNESS WHEREOF, I have hereunto set my hand this twenty-ninth day of April, in the year of our Lord two thousand twenty-two, and of the Independence of the United States of America the two hundred and forty-sixth.

[FR Doc. 2022-09758

Filed 5-4-22; 8:45 am]

Billing code 3395-F2-P